Proclamation 7766 of April 2, 2004

National Child Abuse Prevention Month, 2004

By the President of the United States of America

A Proclamation

America has a fundamental duty to protect the safety and well-being of its children. During National Child Abuse Prevention Month, we renew our commitment to preventing child abuse and neglect, and we dedicate ourselves to creating a safe environment in which our children can grow and thrive.

We have made important progress in protecting America's children, but too many still suffer from abuse and neglect. Recent reports indicate that nearly 900,000 children were found to be victims of abuse or neglect in 2002. Of these children, an estimated 1,400 died, 75 percent of whom were 4 years old or younger.

These young girls and boys depend on adults to recognize the risk factors and warning signs of abuse and to take action to end it. This critical responsibility is shared by parents, teachers, coaches, religious leaders, government officials, and concerned citizens in every community.

NOW, THEREFORE, I, GEORGE W. BUSH, President of the United States of America, by virtue of the authority vested in me by the Constitution and laws of the United States, do hereby proclaim April 2004 as National Child Abuse Prevention Month. I encourage all citizens to take an active role in creating a caring community and help protect America's children from abuse and neglect.

IN WITNESS WHEREOF, I have hereunto set my hand this second day of April, in the year of our Lord two thousand four, and of the Independence of the United States of America the two hundred and twenty-eighth.

B

[FR Doc. 04-8041

Filed 4-6-04; 8:58 am]

Billing code 3195-01-P